DEPARTMENT OF HEALTH AND HUMAN SERVICES

Centers for Disease Control and Prevention

[30Day-18-17AZG]

Agency Forms Undergoing Paperwork Reduction Act Review

In accordance with the Paperwork Reduction Act of 1995, the Centers for Disease Control and Prevention (CDC) has submitted the information collection request titled Assessment of Cancer Prevention Services at Community Mental Health Centers to the Office of Management and Budget (OMB) for review and approval. CDC previously published a “Proposed Data Collection Submitted for Public Comment and Recommendations” notice on November 8, 2017 to obtain comments from the public and affected agencies. CDC received four comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Assessment of Cancer Prevention Services at Community Mental Health Centers (0920-17AZG)—New—National Center for Chronic Disease Prevention and Health Promotion (NCCDPHP), Centers for Disease Control and Prevention (CDC).

Background and Brief Description

People with mental illness (MI) have higher rates of cancer risk factors such as smoking and obesity than people without MI.

Many people with MI receive outpatient mental health care at community mental health centers (CMHC), and some of these facilities also provide screening for cardiovascular disease and other chronic conditions. The extent to which CMHCs provide cancer prevention services is not understood.

This project will use online instruments and telephone interviews with psychiatric clinicians (e.g., psychiatrists, psychiatric nurse practitioners, psychologists, registered nurses, and other clinicians who might oversee cancer prevention services) and administrators at selected CMHCs across the United States to assess the capacities of these facilities to provide cancer prevention services (e.g., cancer risk factor education, cancer screening referrals, tobacco cessation counseling) to clients.

Our goal is to achieve a final analytic sample of at least 250 psychiatric clinicians and 250 administrators at CMHCs. A subset of 5%-10% of each group will be interviewed by telephone.

The objectives of this study are to: (1) Describe the capacity of CMHCs to provide cancer prevention services; (2) describe any written policies and procedures at CMHCS for providing these services; (3) describe any collaboration of CMHCs with health care providers or community health workers/organizations to provide these services; and (4) describe any barriers to providing these services. Researchers will ask respondents for CMHCs that provide cancer prevention services about best practices and lessons learned.

To calculate the total burden, we estimated 500 respondents for the surveys and 50 for the interviews. The average burden varied from 15-20 minutes for the surveys, and an hour for the interviews. The total estimated annual burden hours are 392. There will be no costs to the respondents other than their time.

Estimated Annualized Burden Hours
Type of respondents | Form name | Number of respondents | Number of responses per respondent | Average burden per response (in hours)
Psychiatric clinicians | Clinician Survey Instrument | 500 | 1 | 15/60
Administrators | Administrator Survey Instrument | 500 | 1 | 20/60
Psychiatric clinicians | Clinician Interview | 50 | 1 | 1
Administrators | Administrator Interview | 50 | 1 | 1

Leroy A. Richardson,
Chief, Information Collection Review Office, Office of Scientific Integrity, Office of the Associate Director for Science, Office of the Director, Centers for Disease Control and Prevention.

[FR Doc. 2018-04177 Filed 2-28-18; 8:45 am]

BILLING CODE 4163-18-P